DEPARTMENT OF AGRICULTURE

Submission for OMB Review; Comment Request

August 10, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: 7 CFR part 1786, Prepayment of RUS Guaranteed and Insured Loans to Electric and Telephone Borrowers.

OMB Control Number: 0572-0088.

Summary of Collection: The Rural Electrification (RE) Act of 1936, as amended, authorizes and empowers the Administrator of RUS to make loans in the States and Territories of the United States for rural electrification and for the purpose of furnishing and improving electric and telephone service in rural areas and to assist electric borrowers to implement demand side management, energy conservation programs, and on-grid and off-grid renewable energy systems. 7 CFR part 1786, subparts E and F are authorized by this section.

Need and Use of the Information: The information will be collected from borrowers requesting to prepay their notes and to determine that the borrower is qualified to prepay under the authorizing statues. The overall goal of subparts E and F is to allow RUS borrowers to prepay their RUS loan and the overall goal of subpart G is to refinance.

Description of Respondents: Business or other for-profit; Not-for-profit institutions.

Number of Respondents: 5.

Frequency of Responses: Reporting: On occasion.

Total Burden Hours: 16.

Rural Utilities Service

Title: 7 CFR 1703, subparts D, E, F, and G, Distance Learning and Telemedicine Loan and Grant Program.

OMB Control Number: 0572-0096.

Summary of Collection: The Rural Utilities Service (RUS) is a credit agency of the Department of Agriculture and is authorized by Chapter 1 of subtitle D of the Food, Agriculture, Conservation and Trade Act of 1990. The purpose of the Distance Learning and Telemedicine Loan and Grant Program is to improve telemedicine services and distance learning services in rural areas through the use of telecommunications, computer networks, and related advanced technologies by students, teachers, medical professionals and rural residents.

Need and Use of the Information: The various forms and narrative statements required are collected from eligible applicants that are public and private, for-profit and not-for-profit rural community facilities, schools, libraries, hospitals, and medical facilities. The purpose of this information is to determine such factors as: eligibility of the applicant; the specific nature of the proposed project; the purposes for which loan and grant funds will be used; project financial and technical feasibility; and compliance with applicable laws and regulations.

Description of Respondents: Business or other for-profit; Not-for-profit institutions; State, Local or Tribal Government.

Number of Respondents: 230.

Frequency of Responses: Recordkeeping; Reporting: On occasion.

Total Burden Hours: 13,451.

Rural Utilities Service

Title: 7 CFR part 1703-H, Deferments of RUS Loan Payments for Rural Development Projects.

OMB Control Number: 0572-0097.

Summary of Collection: Subsection (b) of section 12 of the Rural Electrification Act (RE Act) of 1936, as amended (7 U.S.C. 912), a Rural Utilities Service (RUS) electric or telephone borrower may defer the payment of principal and interest on any insured or direct loan made under the RE Act invest the deferred amounts in rural development projects. The Deferment program is used to encourage borrowers to invest in and promote rural development and rural job creation projects that are based on sound economic and financial analyses.

Need and Use of the Information: RUS will collect information to determine eligibility; specific purposes for which the deferment amount will be utilized; the term of the deferment the borrower will receive; the cost of the total project and degree of participation in the financing from other sources; verification that the purposes will not violate limitations established in 7 CFR 1703-H. If the information were not collected, RUS would be unable to determine eligibility for a project.

Description of Respondents: Not-for-profit; Business or other for-profit.

Number of Respondents: 1.

Frequency of Responses: Recordkeeping; Reporting: On occasion.

Total Burden Hours: 11.

Rural Utilities Service

Title: Lien Accommodations and Subordinations 7 CFR part 1717, subparts R and S.

OMB Control Number: 0572-0100.

Summary of Collection: The Rural Electrification Act (RE Act) of 1936, 7 U.S.C. 901 et seq., as amended, authorizes and empowers the Administrator of the Rural Utilities Service (RUS) to make loans in the several States and Territories of the United States for rural electrification and the furnishing electric energy to persons in rural areas who are not receiving central station service. The RE Act also authorizes and empowers the Administrator of RUS to provide financial assistance to borrowers for purposes provided in the RE Act by accommodating or subordinating loans made by the National Rural Utilities Cooperative Finance Corporation, the Federal Financing Bank, and other lending agencies.

Need and Use of the Information: RUS will used the information to determine an applicant's eligibility for a lien accommodation or lien subordination under the RE Act; facilitates an applicant's solicitation and acquisition of non-RUS loans as to converse available Government funds; monitor the compliance of borrowers with debt covenants and regulatory requirements in order to protect loan security; and subsequently to granting the lien accommodation of lien subordination, administer each so as to minimize its cost to the Government. If the information were not collected, RUS would not be able to accomplish its statutory goals.

Description of Respondents: Not-for-profit institutions; Business or other for-profit.

Number of Respondents: 15.

Frequency of Responses: Reporting: On occasion.

Total Burden Hours: 290.

Rural Utilities Service

Title: 7 CFR 1751 subpart B/State Telecommunications Modernization Plan.

OMB Control Number: 0572-0104.

Summary of Collection: The Rural Electrification Loan Restructuring Act (RELRA, Pub. L. 103-129), November 1, 1993, amended the Rural Electrification Act of 1936, 7 U.S.C. 901 et seq. (the RE Act). RELRA required that a State Telecommunications Modernization Plan (Modernization Plan or Plan), meet all the statutory requirements of RELRA (part 1751, Subpart B). The plan at a minimum must provide for: (1) The elimination of party line service; (2) the availability of telecommunications services for improved business, educational, and medical services; (3) must encourage computer networks and information highways for subscribers in rural areas; (4) must provide for subscribers in rural areas to be able to receive through telephone lines: (a) conference calling; (b) video images; and (c) data at a rate of 1 million bits of information per second; and, the proper routing of information to subscribers.

Need and Use of the Information: The Rural Utilities Service (RUS) telecommunications program staff will review the Modernization Plan and approve the plans, if it complies with the requirements of the regulation. If the proposed Modernization Plan is approved, RUS will notify the developer of the approval. If not, RUS will make specific written comments and suggestions for modifying the proposed Modernization Plan so that it will comply with the requirements of the regulation. If the information is not collected, RUS' authority to make loans under the Rural Electrification Act will be restricted.

Description of Respondents: Business or other for-profit; Not-for-profit institutions.

Number of Respondents: 1.

Frequency of Responses: Reporting: On occasion.

Total Burden Hours: 350.

Rural Utilities Service

Title: 7 CFR part 1721, Extensions of Payments of Principal and Interest.

OMB Control Number: 0572-0123.

Summary of Collection: The Rural Utilities Service (RUS) electric program provides loans and loan guarantees to borrowers at interest rates and on terms that are more favorable than those generally available from the private sector. Procedures and conditions which borrowers may request extensions of the payment of principal and interest are authorized, as amended, in section 12 of the Rural Electrification Act of 1936, and section 236 of the Disaster Relief Act of 1970. As a result of obtaining Federal financing, RUS borrowers receive economic benefits that exceed any direct economic costs associated with complying with (RUS) regulations and requirements.

Need and Use of the Information: The collection of information occurs only when the borrower requests an extension of principal and interest. Eligible purposes include financial hardship, energy resource conservation loans, renewable energy project, and contributions-in-aid of construction. The collections are made to provide needed benefits to borrowers while also maintaining the integrity of RUS loans and their repayment of taxpayer's monies.

Description of Respondents: Not-for-profit institutions.

Number of Respondents: 45.

Frequency of Responses: Reporting: On occasion.

Total Burden Hours: 424.

Charlene Parker,
Departmental Information Collection Clearance Officer.

[FR Doc. E9-19427 Filed 8-12-09; 8:45 am]

BILLING CODE 3410-15- P